DEPARTMENT OF THE INTERIOR

Bureau of Land Management

[A2407-014-004-065516; #O2412-014-004-047181.1]

Proposed Reinstatement of Terminated Oil and Gas Leases in Las Animas and Weld Counties, CO

AGENCY: Bureau of Land Management, Interior.

ACTION: Notice of lease reinstatements.

SUMMARY: In accordance with the Mineral Leasing Act of 1920, Longs Peak Resources, LLC, Las Animas Leasing, Inc., and Bison IV Properties Colorado, LLC, timely filed with the Bureau of Land Management (BLM) a petition for reinstatement of competitive oil and gas leases, located in Las Animas and Weld Counties, Colorado. The lessees paid the required rentals that accrued from the date of termination. The BLM has not issued new leases that affect these lands prior to receiving the petitions. The BLM proposes to reinstate these leases because they meet the requirements of the Mineral Leasing Act and BLM regulations and are in conformance with the existing Eastern Resource Management Plan, signed on January 9, 2024.

FOR FURTHER INFORMATION CONTACT: Scott Curtis, Supervisory Land Law Examiner, Fluid Minerals Adjudication, Bureau of Land Management Colorado State Office, P.O. Box 151029, DFC—Bldg., 40, Lakewood, CO 80215, (303) 239-3600, email: BLM_CO_LeaseSale@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The lessees agreed to the new lease terms for rentals and royalties of $20 per acre, or fraction thereof, per year, and 20 percent respectively. The lessees paid the required $500 administrative fee for lease reinstatement and the $151 cost of publishing this notice. The lessees met the requirements for reinstatement of the leases per sec. 31(d) and (e) of the Minerals Leasing Act of 1920 (30 U.S.C. 188). Additionally, in accordance with the requirements of IM 2018-010, the BLM Royal Gorge Field Office associated with this lease has reviewed conformance with the existing resource management plan and supported the Field Office decision to reinstate, informed by an environmental assessment.

The BLM proposes to reinstate the leases referenced below, effective with their respective termination dates, under the original terms and conditions of the leases and the increased rental and royalty rates cited above.

Lease No. | Lessee | Termination date | County | Acres
COCO105724678 (COC79160) | Longs Peak Resources, LLC | 1/1/2020 | Weld | 315.80
COCO105672635 (COC79892) | Las Animas Leasing, Inc | 1/1/2021 | Las Animas | 2081.160
COCO105672641 (COC79898) | Las Animas Leasing, Inc | 1/1/2021 | Las Animas | 1680.0
COCO105674901 (COC79921) | Las Animas Leasing, Inc | 1/1/2021 | Las Animas | 2320.0
COCO105294898 | Bison IV Properties Colorado, LLC | 8/1/2023 | Weld | 120

(Authority: 30 U.S.C. 188(e)(4) and 43 CFR 3108.23)

Kemba K. Anderson,
Fluid Minerals Branch Chief.

[FR Doc. 2025-15360 Filed 8-12-25; 8:45 am]

BILLING CODE 4331-16-P